DEPARTMENT OF HOUSING AND URBAN DEVELOPMENT

[Docket No. 5482-N-01]

Notice of Proposed Information Collection; Comment Request; Section 3 Business Self-Certification Application

AGENCY: Office of the Assistant Secretary for Fair Housing and Equal Opportunity, HUD.

ACTION: Notice.

SUMMARY: The information collection associated with the Section 3 Business Self-Certification Pilot Program is being submitted to the Office of Management and Budget (OMB) as a new collection, as required by the Paperwork Reduction Act. The Office of Fair Housing and Equal Opportunity will be implementing a six-month Section 3 Business Self-Certification pilot program in five metropolitan areas: (1) Washington, DC; (2) Los Angeles, CA; (3) New Orleans, LA; (4) Detroit, MI; and (5) Miami, FL. The findings from this pilot program will allow HUD to determine the feasibility of implementing the Section 3 Business Self-Certification program nationally. The proposed Section 3 Business Self-Certification Application Form has been developed to allow eligible businesses to self-certify that they meet the regulatory definition of a Section 3 Business Concern set forth at 24 CFR part 135. Eligible firms will complete and submit the form electronically to HUD, and will be placed into a registry of Section 3 Businesses maintained on HUD's Web site. Agencies that receive Section 3 covered HUD funding will be encouraged to contact the firms listed in HUD's registry of Section 3 Businesses to facilitate the award of contracts and subcontracts to these entities.

DATES: Comments Due Date: March 21, 2011.

ADDRESSES: Interested persons are invited to submit comments regarding this proposal. Comments should refer to the proposal by name and/or OMB Control Number and should be sent to: Colette Pollard, Paperwork Reduction Act Officer, Office of the Chief Information Officer, Department of Housing and Urban Development, 451 7th Street, SW., Room 4178, Washington, DC 20410. Telephone number (202) 402-3400.

FOR FURTHER INFORMATION CONTACT: Staci Gilliam, Director, Economic Opportunity Division, Office of Fair Housing and Equal Opportunity, Department of Housing and Urban Development, 451 7th Street, SW., Room 5232, Washington, DC 20410, telephone (202) 402-3468. (This is not a toll-free number). Hearing or speech-impaired individuals may access this number TTY by calling the toll-free Federal Information Relay Service at 1-800-877-8399.

SUPPLEMENTARY INFORMATION: Recipients of HUD funding that is subject to the requirements of Section 3 of the Housing and Urban Development Act of 1968 are required to meet the minimum numerical goals for employment and contracting set forth in the Section 3 regulation at 24 CFR 135.30, to the greatest extent feasible. The proposed Section 3 Business Self-Certification pilot program will increase the capacity of covered agencies to comply with the requirements of Section 3, and is anticipated to result in numerous economic opportunities for low-income persons and the businesses that substantially employ them. The proposed pilot program will also enhance the Department's ongoing efforts to strengthen the overall effectiveness and enforcement of Section 3.

Title of Proposal: Section 3 Business Self-Certification Application.

Office: Fair Housing and Equal Opportunity.

OMB Control Number: 2529-.

Description of the need for the information and proposed use: The information collected from the Section 3 Business Self-Certification Application will allow HUD and recipients of covered HUD funding to identify Section 3 Businesses within their communities. The overriding purpose of this information collection is to ensure that contracting opportunities are provided to Section 3 businesses in fulfillment of the regulatory requirements set forth at 24 CFR Part 135, and to increase the capacity of covered agencies to comply with the requirements of Section 3. HUD will use the information to identify firms that self-certify that they meet the regulatory definition of a Section 3 Business. The information collected from the Section 3 Business Self-Certification Application will be posted in a registry of Section 3 Businesses which will be posted on HUD's webpage. Agencies that receive covered HUD funding in the five pilot locations will be encouraged to notify the Section 3 Businesses contained in HUD's registry about the availability of covered contracting opportunities.

Agency form numbers, if applicable:

Members of affected public: Businesses that are either owned by, or substantially employ, low- or very low-income persons; low-income persons; developers; members of the general public; Public Housing Agencies; and State and local governments.

Estimation of the total numbers of hours needed to prepare the information collection including number of respondents, frequency of response, and hours of response: The Department estimates that approximately 20,000 businesses in the five pilot locations may complete the Section 3 Self-Certification Application during the six-month pilot program. It is estimated that each application will take approximately 30 minutes to complete for a total of 10,000 hours.

Status of the proposed information collection: New information collection.

Authority: The Paperwork Reduction Act of 1995, 44 U.S.C. Chapter 35, as amended.

Dated: January 13, 2011.
Bryan Greene,
General Deputy Assistant, Secretary for Fair Housing and Equal Opportunity.

[FR Doc. 2011-1156 Filed 1-19-11; 8:45 am]

BILLING CODE 4210-67-P